DEPARTMENT OF HEALTH AND HUMAN SERVICES

Centers for Disease Control and Prevention

Clinical Laboratory Improvement Advisory Committee (CLIAC): Meeting

In accordance with section 10(a)(2) of the Federal Advisory Committee Act (Pub. L. 92-463), the Centers for Disease Control and Prevention (CDC) announces the following committee meeting.

Name: Clinical Laboratory Improvement Advisory Committee (CLIAC).

Times and Dates:

8:30 a.m.-5:00 p.m., September 11, 2002.

8:30 a.m.-3:30 p.m., September 12, 2002.

Place: CDC, Koger Center, Williams Building, Conference Rooms 1802 and 1805, 2877 Brandywine Road, Atlanta, Georgia 30341.

Status: Open to the public, limited only by the space available. The meeting room accommodates approximately 100 people.

Purpose: This committee is charged with providing scientific and technical advice and guidance to the Secretary of Health and Human Services, the Assistant Secretary for Health, and the Director, CDC, regarding the need for, and the nature of, revisions to the standards under which clinical laboratories are regulated; the impact on medical and laboratory practice of proposed revisions to the standards; and the modification of the standards to accommodate technological advances.

Matters To Be Discussed: The agenda will include updates from CDC, the Food and Drug Administration, and the Centers for Medicare & Medicaid Services; a report on the Coordinating Council for Clinical Laboratory Workforce's April 2002 meeting and subsequent activities; reports from several organizations on healthcare workforce issues; Department of Health and Human Services' bioterrorism preparedness and response activities; a report on the Secretary's Advisory Committee on Genetic Testing May 2002 meeting; genetics testing survey results from the Pacific Northwest Sentinel Network; and an update on plans for the April 2003 Quality Institute.

Agenda items are subject to change as priorities dictate.

Contact Person for Additional Information: Rhonda Whalen, Chief, Laboratory Practice Standards Branch, Division of Laboratory Systems, Public Health Practice Program Office, CDC, 4770 Buford Highway, NE, Mailstop F-11, Atlanta, Georgia 30341-3724, telephone 770/488-8042, fax 770/488-8279.

The Director, Management Analysis and Services Office, has been delegated the authority to sign Federal Register Notices pertaining to announcements of meetings and other committee management activities, for both the Centers for Disease Control and Prevention and the Agency for Toxic Substances and Disease Registry.

Dated: August 14, 2002.
Joseph E. Salter,
Acting Director, Management Analysis and Services Office, Centers for Disease Control and Prevention.

[FR Doc. 02-21081 Filed 8-19-02; 8:45 am]

BILLING CODE 4163-18-P